DEPARTMENT OF COMMERCE

International Trade Administration

[A-580-876]

Welded Line Pipe From the Republic of Korea: Amended Final Results of Antidumping Duty Administrative Review; 2016-2017

AGENCY: Enforcement and Compliance, International Trade Administration, Department of Commerce.

SUMMARY: The Department of Commerce (Commerce) is amending the final results of the administrative review of the antidumping duty order on welded line pipe (WLP) from the Republic of Korea (Korea) to correct two ministerial errors. Correction of these errors results in revised margins for SeAH Steel Corporation (SeAH) and the companies not selected for individual examination. The amended final dumping margins are listed below in the section entitled, “Amended Final Results of the Review.”

DATES: Applicable July 23, 2019.

FOR FURTHER INFORMATION CONTACT: David Goldberger or Joshua Tucker, AD/CVD Operations, Office II, Enforcement and Compliance, International Trade Administration, U.S. Department of Commerce, 1401 Constitution Avenue NW, Washington, DC 20230; telephone: (202) 482-4136 or (202) 482-2044, respectively.

SUPPLEMENTARY INFORMATION:

Background

On June 14, 2019, Commerce published the Final Results of the 2016-2017 administrative review of WLP from Korea in the Federal Register.¹ Subsequently, on June 17, 2019, SeAH and NEXTEEL Co., Ltd. (NEXTEEL), the two companies selected for individual examination in this administrative review, submitted comments alleging ministerial errors in Commerce's Final Results.²

¹ See Welded Line Pipe from the Republic of Korea: Final Results of Antidumping Duty Administrative Review and Final Determination of No Shipments; 2016-2017, 84 FR 27762 (June 14, 2019) (Final Results), and accompanying Issues and Decision Memorandum.

² See SeAH's Letter, “Administrative Review of the Antidumping Order on Welded Line Pipe from Korea—Comments on Ministerial Errors in Final Determination,” dated June 17, 2019. See also NEXTEEL's Letter, “Welded Line Pipe from the Republic of Korea: Ministerial Error Comments,” dated June 17, 2019.

Legal Framework

A ministerial error, as defined in section 751(h) of the Tariff Act of 1930, as amended (the Act), includes “errors in addition, subtraction, or other arithmetic function, clerical errors resulting from inaccurate copying, duplication, or the like, and any other type of unintentional error which the administering authority considers ministerial.” ³ With respect to final results of administrative reviews, 19 CFR 351.224(e) provides that Commerce “will analyze any comments received and, if appropriate, correct any ministerial error by amending . . . the final results of review. . . .”

³ See 19 CFR 351.224(f).

Ministerial Errors

Commerce made two inadvertent errors within the meaning of section 735(e) of the Act and 19 CFR 351.224(f) with respect to the application of the particular market situation (PMS) adjustment rate to SeAH's hot-rolled coil (HRC) costs, and the application of general and administrative (G&A) and financial expenses to SeAH's further manufactured sales. Specifically, we determine that we erred: (1) In applying the PMS adjustment rate without adjusting it to account for the percentage of HRC consumed relative to the total raw materials; and (2) in double counting the G&A and financial expenses for further manufactured sales. Accordingly, we determine, in accordance with section 751(h) of the Act and 19 CFR 351.224(f), that we made unintentional ministerial errors in the Final Results. Pursuant to 19 CFR 351.224(e), Commerce is amending the Final Results to reflect the correction of these errors. In addition, we determine that NEXTEEL's alleged ministerial errors reflect our intended methodology and, thus, are not ministerial errors. Moreover, because the review-specific average rate applicable to companies in this administrative review not selected for individual examination was based, in part, on SeAH's weighted-average dumping margin, we are revising the review-specific average rate. For a detailed discussion of the ministerial error allegations, as well as Commerce's analysis, see Ministerial Error Memorandum.⁴

⁴ See Memorandum, “Welded Line Pipe from Korea: 2016-2017 Antidumping Duty Administrative Review—Ministerial Error Allegations,” dated concurrently with, and hereby adopted by, this notice (Ministerial Error Memorandum).

Amended Final Results of the Review

As a result of correcting the ministerial errors described above, we determine that the weighted-average dumping margins for the firms listed below exist for the period December 1, 2016 through November 30, 2017:

Exporter/producer | Weighted- average dumping margin (percent)
NEXTEEL Co., Ltd | 38.87
SeAH Steel Corporation | 22.70

Review-Specific Average Rate Applicable to the Following Companies: ⁵

⁵ This rate is based on the weighted-average of the margins calculated for those companies selected for individual review using the publicly-ranged U.S. quantities. See Ministerial Error Memorandum, and Memorandum, “Calculations for SeAH Steel Corporation for the Amended Final Results” (which includes the calculation of the review-specific rate), dated concurrently with this notice.

Exporter/producer | Weighted- average dumping margin (percent)
AJU Besteel Co., Ltd | 29.89
BDP International, Inc | 29.89
Daewoo International Corporation | 29.89
Dongbu Incheon Steel Co | 29.89
Dongbu Steel Co., Ltd | 29.89
Dongkuk Steel Mill | 29.89
Dong Yang Steel Pipe | 29.89
EEW Korea Co, Ltd | 29.89
Husteel Co., Ltd | 29.89
Hyundai RB Co. Ltd | 29.89
Hyundai Steel Company/Hyundai HYSCO | 29.89
Kelly Pipe Co., LLC | 29.89
Keonwood Metals Co., Ltd | 29.89
Kolon Global Corp | 29.89
Korea Cast Iron Pipe Ind. Co., Ltd | 29.89
Kurvers Piping Italy S.R.L | 29.89
Miju Steel MFG Co., Ltd | 29.89
MSTEEL Co., Ltd | 29.89
Poongsan Valinox (Valtimet Division) | 29.89
POSCO | 29.89
POSCO Daewoo | 29.89
R&R Trading Co. Ltd | 29.89
Sam Kang M&T Co., Ltd | 29.89
Sin Sung Metal Co., Ltd | 29.89
SK Networks | 29.89
Soon-Hong Trading Company | 29.89
Steel Flower Co., Ltd | 29.89
TGS Pipe | 29.89
Tokyo Engineering Korea Ltd | 29.89

Disclosure

We intend to disclose the calculations performed for these amended final results within five days of the date of publication of this notice to parties in this proceeding, in accordance with 19 CFR 351.224(b).

Antidumping Duty Assessment

Pursuant to section 751(a)(2)(C) of the Act, and 19 CFR 351.212(b)(1), Commerce has determined, and U.S. Customs and Border Protection (CBP) shall assess, antidumping duties on all appropriate entries of subject merchandise in accordance with the amended final results of this review.

Pursuant to 19 CFR 351.212(b)(1), NEXTEEL reported the entered value of its U.S. sales such that we calculated importer-specific ad valorem duty assessment rates based on the ratio of the total amount of dumping calculated for the examined sales to the total entered value of the sales for which entered value was reported. SeAH did not report actual entered value for all of its U.S. sales such that we calculated entered value and determined the importer-specific ad valorem assessment rates as described above for NEXTEEL. Where either the respondent's weighted-average dumping margin is zero or de minimis within the meaning of 19 CFR 351.106(c)(1), or an importer-specific assessment rate is zero or de minimis, we will instruct CBP to liquidate the appropriate entries without regard to antidumping duties.

For the companies which were not selected for individual review, we will assign an assessment rate based on the average ⁶ of the cash deposit rates calculated for NEXTEEL and SeAH. The amended final results of this review shall be the basis for the assessment of antidumping duties on entries of merchandise covered by the amended final results of this review and for future deposits of estimated duties, where applicable.⁷

⁶ This rate was calculated as discussed in the footnote above.

⁷ See section 751(a)(2)(C) of the Act.

We intend to issue liquidation instructions to CBP 15 days after publication of these amended final results of this administrative review.

Cash Deposit Requirements

The following cash deposit requirements will be effective retroactively for all shipments of the subject merchandise entered, or withdrawn from warehouse, for consumption on or after June 14, 2019, the date of publication date of the Final Results of this administrative review, as provided by section 751(a)(2)(C) of the Act: (1) The cash deposit rate for each specific company listed above will be that established in the amended final results, except if the rate is less than 0.50 percent and, therefore, de minimis within the meaning of 19 CFR 351.106(c)(1), in which case the cash deposit rate will be zero; (2) for previously reviewed or investigated companies, including those for which Commerce may have determined had no shipments during the period of review, the cash deposit will continue to be the company-specific rate published for the most recently completed segment of this proceeding in which the company participated; (3) if the exporter is not a firm covered in this or an earlier review, or the original less-than-fair-value (LTFV) investigation, but the manufacturer is, the cash deposit rate will be the rate established for the most recently completed segment of this proceeding for the manufacturer of the merchandise; and (4) if neither the exporter nor the manufacturer is a firm covered in this or any previously completed segment of this proceeding, then the cash deposit rate will be the all-others rate of 4.38 percent established in the LTFV investigation.⁸ These deposit requirements, when imposed, shall remain in effect until further notice.

⁸ See Welded Line Pipe from the Republic of Korea and the Republic of Turkey: Antidumping Duty Orders, 80 FR 75056, 75057 (December 1, 2015).

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Administrative Protective Order

This notice serves as the only reminder to parties subject to administrative protective order (APO) of their responsibility concerning the disposition of proprietary information disclosed under APO in accordance with 19 CFR 351.305(a)(3), which continues to govern business proprietary information in this segment of the proceeding. Timely written notification of return/destruction of APO materials or conversion to judicial protective order is hereby requested. Failure to comply with the regulations and the terms of an APO is a sanctionable violation.

Notification to Interested Parties

These amended final results and notice are issued and published in accordance with sections 751(h) and 777(i) of the Act and 19 CFR 351.224(e).

Dated: July 16, 2019.
Jeffrey I. Kessler,
Assistant Secretary for Enforcement and Compliance.

[FR Doc. 2019-15619 Filed 7-22-19; 8:45 am]

BILLING CODE 3510-DS-P